DEPARTMENT OF TRANSPORTATION

Federal Aviation Administration

14 CFR Part 39

[Docket No. FAA-2016-9304; Directorate Identifier 2016-NM-028-AD]

RIN 2120-AA64

Airworthiness Directives; Bombardier, Inc. Airplanes

AGENCY: Federal Aviation Administration (FAA), Department of Transportation (DOT).

ACTION: Notice of proposed rulemaking (NPRM).

SUMMARY: We propose to adopt a new airworthiness directive (AD) for certain Bombardier, Inc. Model BD-700-1A10 and BD-700-1A11 airplanes. This proposed AD was prompted by reports of aileron and rudder control cables which may have tensions that are beyond allowable limits. This proposed AD would require revising the maintenance or inspection program to incorporate certification maintenance requirement tasks that introduce functional tests of the control cable tension. We are proposing this AD to detect and correct out-of-tolerance tension in the control cables, which, with certain system failures and environmental conditions, could result in reduced controllability of the airplane.

DATES: We must receive comments on this proposed AD by December 22, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Bombardier, Inc., 400 Côte-Vertu Road West, Dorval, Québec H4S 1Y9, Canada; telephone: 514-855-5000; fax: 514-855-7401; email: thd.crj@aero.bombardier.com; Internet: http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9304; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Cesar Gomez, Aerospace Engineer, Airframe and Mechanical Systems Branch, ANE-171, FAA, New York Aircraft Certification Office (ACO), 1600 Stewart Avenue, Suite 410, Westbury, NY 11590; telephone: 516-228-7318; fax: 516-794-5531.

SUPPLEMENTARY INFORMATION:

Comments Invited

We invite you to send any written relevant data, views, or arguments about this proposed AD. Send your comments to an address listed under the ADDRESSES section. Include “Docket No. FAA-2016-9304; Directorate Identifier 2016-NM-028-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2016-06R1, dated July 25, 2016 (referred to after this as the Mandatory Continuing Airworthiness Information, or ”the MCAI”), to correct an unsafe condition for certain Bombardier, Inc. Model BD-700-1A10 and BD-700-1A11 airplanes. The MCAI states:

Recent in-service inspections have shown that aileron and rudder control cables may have tensions beyond allowable limits. Review of the technical documentation found that there are no maintenance tasks to detect and rectify out-of-tolerance tensions on these cables. Out of tolerance cables in combinations with certain system failures and environmental conditions could result in the degraded aircraft controllability.

* * * [This Canadian] AD was issued to mandate a revision to the approved maintenance schedule [maintenance or inspection program, as applicable] to introduce cable tension check [e.g., functional test,] as [certification maintenance requirement] tasks.

You may examine the MCAI on the Internet at http://www.regulations.gov by searching for and locating Docket No. FAA-2016-9304.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (j)(1) of this proposed AD. The request should include a description of changes to the required actions that will ensure the continued operational safety of the airplane.

Related Service Information Under 1 CFR Part 51

We reviewed the following Bombardier, Inc. service information:

• Temporary Revision (TR) 5-2-10, dated November 24, 2015, to Part 2, Section 5-10-40, of Bombardier Global Express XRS BD-700 Time Limits/Maintenance Checks.

• TR 5-2-15, dated November 24, 2015, to Part 2, Section 5-10-40, of Bombardier Global 6000 GL 6000 Time Limits/Maintenance Checks.

• TR 5-2-15, dated November 24, 2015, to Part 2, Section 5-10-40, of Bombardier Global 5000 GL 5000 Featuring Global Vision Flight Deck—Time Limits/Maintenance Checks.

• TR 5-2-16, dated November 24, 2015, to Part 2, Section 5-10-40, of Bombardier Global 5000 BD-700 Time Limits/Maintenance Checks.

• TR 5-2-47, dated November 24, 2015, to Part 2, Section 5-10-40, of Bombardier Global Express BD-700 Time Limits/Maintenance Checks.

The service information identifies airworthiness limitation tasks for functional tests of the cable tension of the aileron and rudder control cables. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

Costs of Compliance

We estimate that this proposed AD affects 60 airplanes of U.S. registry.

We estimate the following costs to comply with this proposed AD:

Estimated Costs
Action | Labor cost | Parts cost | Cost per product | Cost on U.S. operators
Maintenance or Inspection Program Revision | 1 work-hours × $85 per hour = $85 per airplane | $0 | $85 | $5,100

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2016-9304; Directorate Identifier 2016-NM-028-AD.

(a) Comments Due Date

We must receive comments by December 22, 2016.

(b) Affected ADs

None.

(c) Applicability

This AD applies to Bombardier, Inc. Model BD-700-1A10 and BD-700-1A11 airplanes, certificated in any category, serial numbers 9002 through 9743 inclusive, and 9998.

(d) Subject

Air Transport Association (ATA) of America Code 27, Flight controls.

(e) Reason

This AD was prompted by reports of aileron and rudder control cables which may have tensions that are beyond allowable limits. We are issuing this AD to detect and correct out-of-tolerance tension in the control cables, which, with certain system failures and environmental conditions, could result in reduced controllability of the airplane.

(f) Compliance

Comply with this AD within the compliance times specified, unless already done.

(g) Time Limits/Maintenance Checks (TLMC)—Maintenance or Inspection Program Revision

Within 30 days after the effective date of this AD, revise the maintenance or inspection program, as applicable, to incorporate certification maintenance requirement (CMR) tasks 27-11-35-101, 27-11-35-102, and 27-21-27-101 (for functional tests of the control cable tension) as specified in the applicable service information in paragraphs (g)(1) through (g)(5) of this AD. The initial compliance time for doing the tasks is specified in paragraph (h) of this AD. When the applicable temporary revision (TR) has been included in general revisions of the TLMC, the general revisions may be inserted in the maintenance or inspection program, and the applicable TR may be removed, provided the relevant information in the general revision is identical to that in the applicable TR.

(1) TR 5-2-10, dated November 24, 2015, to Part 2, Section 5-10-40, of Bombardier Global Express XRS BD-700 Time Limits/Maintenance Checks (for Model BD-700-1A10 airplanes).

(2) TR 5-2-15, dated November 24, 2015, to Part 2, Section 5-10-40, of Bombardier Global 6000 GL 6000 Time Limits/Maintenance Checks (for Model BD-700-1A10 airplanes).

(3) TR 5-2-47, dated November 24, 2015, to Part 2, Section 5-10-40, of Bombardier Global Express BD-700 Time Limits/Maintenance Checks (for Model BD-700-1A10 airplanes).

(4) TR 5-2-15, dated November 24, 2015, to Part 2, Section 5-10-40, of Bombardier Global 5000 GL 5000 Featuring Global Vision Flight Deck—Time Limits/Maintenance Checks (for Model BD-700-1A11 airplanes).

(5) TR 5-2-16, dated November 24, 2015, to Part 2, Section 5-10-40, of Bombardier Global 5000 BD-700 Time Limits/Maintenance Checks (for Model BD-700-1A11 airplanes).

(h) Initial Compliance Times for CMR Tasks

The initial compliance times for doing the CMR tasks identified in paragraph (g) of this AD are at the applicable times specified in paragraphs (h)(1), (h)(2), and (h)(3) of this AD, or within 30 days after the effective date of this AD, whichever occurs later.

(1) For airplanes having serial numbers (S/Ns) 9002 through 9694 inclusive, and 9998: Within 15 months after the effective date of this AD; or within 30 months since the date of issuance of the original Canadian airworthiness certificate or the date of issuance of the original Canadian export certificate of airworthiness; whichever occurs first.

(2) For airplanes having S/Ns 9695 through 9743 inclusive that have had aileron and/or rudder control cable replacement and the aileron and rudder control cables were rigged as specified in any applicable Bombardier aircraft maintenance manual (AMM) revision earlier than the revision date shown in paragraphs (h)(2)(i) through (h)(2)(v) of this AD or the AMM revision date is unknown: Within 15 months after the effective date of this AD; or within 30 months since the date of issuance of the original Canadian airworthiness certificate or the date of issuance of the original Canadian export certificate of airworthiness; whichever occurs first.

(i) GL 700 AMM, Revision 67, dated August 6, 2015 (for Model BD-700-1A10 airplanes).

(ii) GL XRS AMM, Revision 45, dated August 6, 2015 (for Model BD-700-1A10 airplanes).

(iii) GL 6000 AMM, Revision 15, dated August 6, 2015 (for Model BD-700-1A10 airplanes).

(iv) GL 5000 AMM, Revision 48, August 6, 2015 (for Model BD-700-1A11 airplanes).

(v) GL 5000 GVFD AMM, Revision 15, August 6, 2015 (for Model BD-700-1A11 airplanes).

(3) For airplanes other than those identified in paragraphs (h)(1) and (h)(2) of this AD: Within 30 months since the date of issuance of the original Canadian airworthiness certificate or the date of issuance of the original Canadian export certificate of airworthiness.

(i) No Alternative Actions and Intervals

Except as provided by paragraph (h) of this AD, after the maintenance or inspection program has been revised as required by paragraph (g) of this AD, no alternative actions (e.g., inspections) or intervals may be used unless the actions or intervals are approved as an alternative method of compliance (AMOC) in accordance with the procedures specified in paragraph (j)(1) of this AD.

(j) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone: 516-228-7300; fax: 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or TCCA; or Bombardier, Inc.'s TCCA Design Approval Organization (DAO). If approved by the DAO, the approval must include the DAO-authorized signature.

(k) Related Information

(1) Refer to Mandatory Continuing Airworthiness Information (MCAI) Canadian AD CF-2016-06 R1, dated July 25, 2016, for related information. This MCAI may be found in the AD docket on the Internet at http://www.regulations.gov by searching for and locating Docket No. FAA-2016-9304.

(2) For service information identified in this AD, contact Bombardier, Inc., 400 Côte-Vertu Road West, Dorval, Québec H4S 1Y9, Canada; telephone: 514-855-5000; fax: 514-855-7401; email: thd.crj@aero.bombardier.com; Internet: http://www.bombardier.com. You may view this service information at the FAA, Transport Airplane Directorate, 1601 Lind Avenue SW., Renton, WA. For information on the availability of this material at the FAA, call 425-227-1221.

Issued in Renton, Washington, on October 26, 2016.
Dionne Palermo,
Acting Manager, Transport Airplane Directorate, Aircraft Certification Service.

[FR Doc. 2016-26520 Filed 11-4-16; 8:45 am]

BILLING CODE 4910-13-P